DEPARTMENT OF THE TREASURY

Alcohol and Tobacco Tax and Trade Bureau

27 CFR Part 9

[Docket No. TTB-2023-0003; Notice No. 222]

RIN 1513-AC77

Proposed Establishment of the Comptche Viticultural Area

AGENCY: Alcohol and Tobacco Tax and Trade Bureau, Treasury.

ACTION: Notice of proposed rulemaking.

SUMMARY: The Alcohol and Tobacco Tax and Trade Bureau (TTB) proposes to establish the 1,421.8-acre “Comptche” American viticultural area (AVA) in Mendocino County, California. The proposed AVA is located entirely within the boundaries of the existing North Coast AVA, but the petitioner requests excluding the proposed AVA from the North Coast AVA due to significant differences in distinguishing features. TTB designates viticultural areas to allow vintners to better describe the origin of their wines and to allow consumers to better identify wines they may purchase. TTB invites comments on these proposals.

DATES: TTB must receive your comments on or before May 30, 2023.

ADDRESSES: You may electronically submit comments to TTB on this proposal, and view copies of this document, its supporting materials, and any comments TTB receives on it within Docket No. TTB-2023-0003 as posted on Regulations.gov (https://www.regulations.gov), the Federal e-rulemaking portal. Please see the “Public Participation” section of this document below for full details on how to comment on this proposal via Regulations.gov or U.S. mail, and for full details on how to obtain copies of this document, its supporting materials, and any comments related to this proposal.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act provisions pursuant to section 1111(d) of the Homeland Security Act of 2002, as codified at 6 U.S.C. 531(d). In addition, the Secretary of the Treasury has delegated certain administrative and enforcement authorities to TTB through Treasury Order 120-01.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features as described in part 9 of the regulations and, once approved, a name and a delineated boundary codified in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and allows any interested party to petition TTB to establish a grape-growing region as an AVA. Section 9.12 of the TTB regulations (27 CFR 9.12) prescribes standards for petitions to establish or modify AVAs. Petitions to establish an AVA must include the following:

• Evidence that the area within the proposed AVA boundary is nationally or locally known by the AVA name specified in the petition;

• An explanation of the basis for defining the boundary of the proposed AVA;

• A narrative description of the features of the proposed AVA that affect viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon; and

• A detailed narrative description of the proposed AVA boundary based on USGS map markings.

If a smaller proposed AVA is to be established within an existing AVA, the petitioner may request, and TTB may determine, that the proposed AVA should not be part of the larger AVA because the proposed AVA has features that clearly distinguish it from the surrounding AVA. In such instances, wine produced from grapes grown within the proposed AVA would not be entitled to use the name of the larger AVA as an appellation of origin or in a brand name if the proposed AVA is established.

Petition To Establish the Comptche AVA

TTB received a petition from Michael Nolan, submitted on behalf of local vineyard owners, proposing to establish the “Comptche” AVA. The proposed AVA is located in Mendocino County, California, and covers 1,421.8 acres. There are 3 commercial vineyards covering a total of over 30 acres within the proposed AVA. Although there are no wineries within the proposed AVA, grapes are sold to nearby wineries, including Baxter, Phillips Hill, and Lula.

The distinguishing features of the proposed Comptche AVA are its topography, soils, and climate. The proposed Comptche AVA is located entirely within the boundaries of the existing North Coast AVA (27 CFR 9.30). However, the petition states that the features of the proposed AVA are so distinguishable from those of the North Coast AVA that the proposed AVA should not be included within it.

Proposed Comptche AVA

Name Evidence

The proposed Comptche AVA takes its name from the community of Comptche, California, which is located within the proposed AVA. The Comptche Volunteer Fire Department provides firefighting services for the community. The Comptche Community Organization hosts a variety of events for residents throughout the year, including bingo, senior lunches, and an art show. Children within the proposed AVA attend the Comptche School from kindergarten through fifth grade. The Comptche Store sells food and supplies within the proposed AVA. Finally, the Comptche Directory provides a list of addresses and phone numbers of residents and businesses within the proposed AVA.

Boundary Evidence

The proposed Comptche AVA is located in Mendocino County, California, in a valley surrounded by forests of coastal redwoods and Douglas firs. The proposed northern, eastern, and western boundaries follow the 400-foot elevation contour and separate the valley floor from the higher, steeper, heavily-forested surrounding regions without viticulture. The proposed southern boundary follows the Albion River, which also separates the proposed AVA from the higher, heavily-forested region to the south.

Distinguishing Features

According to the petition, the distinguishing features of the proposed Comptche AVA are its topography, soils, and climate.

Topography

The proposed Comptche AVA is located in a low-elevation valley, a natural opening that is surrounded by heavily forested lands and short, steep ridges. Elevations within the proposed AVA range from 187 to 400 feet, and all vineyards are planted at elevations between 220 and 250 feet. According to the USGS map included with the petition, elevations are higher in each direction outside of the proposed AVA. To the north of the proposed AVA are several marked peaks with elevations of 1,000 feet or higher. To the east of the proposed AVA, elevations rise above 1,200 feet near the community of Cameron, California. South of the proposed AVA, peaks reach over 600 feet near Morrison Gulch. West of the proposed AVA, elevations rise over 800 feet.

The petition also notes that the proposed Comptche AVA is surrounded by land designated as a Timberland Production Zone. Such land is zoned only for the growing and harvesting of timber for a period of at least 10 years from the time it was so designated.¹ The proposed AVA is unique because non-timber-related agricultural activity, including viticulture, is permitted. The petition includes a map showing the extent of the Timberland Production Zones in Mendocino County.² The map supports the petition's claim that the proposed Comptche AVA is one of the few regions in the coastal section of Mendocino County that is not set aside for timber production for at least the near future.

¹ Californialandcan.org/local-resources/Timberland-Production-Zone/28005.

² You may view the Timber Production Zone map in Appendix 3 of the petition as posted within Docket TTB-2023-0003 at www.regulations.gov.

According to the petition, the topography of the proposed Comptche AVA has an effect on viticulture. The petition states that above 400 feet the land becomes steeper. As a result, the higher elevations surrounding the proposed AVA are less suited to viticulture than the more level lands on the valley floor of the proposed AVA. The petition also states that the 400-foot elevation contour approximates the change to forest soils that are different from the soil series found within the proposed AVA and are more suited for timber production than viticulture.

Finally, the petition states that elevation affects temperatures. As evidence, the petition included data on the monthly low temperatures from a weather station in the proposed AVA at an elevation of 177 feet, a station to the north of the proposed AVA at an elevation of 525 feet, and a station to the south of the proposed AVA at an elevation of 1,168 feet.³ The petition noted that high temperatures are very similar in the proposed AVA and on the ridgelines because the sun shines equally on both in the day. Therefore, the petition focused on low, nighttime temperatures, when cold air drains into the proposed AVA from the surrounding higher elevations. Although the petition included data from each month from 2017 through 2019, the petition states that the growing season months are the important months to consider because the vines are dormant the rest of the year. Therefore, the following table only includes data from each growing season, defined in the petition as April through October.⁴

³ Included in the petition as Table 1; see Docket TTB-2023-0003 at www.regulations.gov.

⁴ You may view the entire set of temperature data in Appendix 4 of the petition as posted within Docket TTB-2023-0003 at www.regulations.gov.

Table 1—Average Growing Season Monthly Low Temperatures in Degrees Fahrenheit From 2017-2019
Month | Location (direction from proposed AVA): Comptche (within) | Location (direction from proposed AVA): Huckleberry Hill (north) | Location (direction from proposed AVA): Rancho Navarro (south)
2017
April | 32.2 | 33.1 | 36.1
May | 35.7 | 38.1 | 41.9
June | N/A | 42.3 | 45.1
July | 44.4 | 46.0 | 46.8
August | 44.7 | 47.5 | 48.6
September | 35.8 | 41.2 | 46.8
October | 27.8 | 39.2 | 43.3
2018
April | 32.7 | 33.6 | 36.3
May | 36.0 | 37.2 | 41.5
June | 37.1 | 38.7 | 44.2
July | 41.7 | 45.1 | 46.4
August | 43.1 | 46.2 | 48.6
September | 36.9 | 42.6 | 47.8
October | 31.0 | 37.4 | 41.7
2019
April | 34.1 | 39.0 | 41.4
May | 33.5 | 37.4 | 40.8
June | 37.8 | 41.0 | N/A
July | 43.4 | 46.2 | 49.1
August | 46.6 | 50.4 | 51.1
September | 35.9 | 40.6 | 42.6
October | 26.0 | 31.3 | 42.8

The petition states that the low temperatures in the low elevations of the proposed AVA place the proposed AVA at greater risk for frost than the higher elevations. Frost during the growing season can harm vines and delay the development of fruit. The cooler evening growing season temperatures within the proposed AVA can also delay grape maturation.

Soils

The petition states that the proposed Comptche AVA has two main soil types—Bearwallow-Wolfey and Perrygulch Loam. According to the petition, most of the vineyards in the proposed AVA are planted on Bearwallow-Wolfey soils, which are described in the petition as well-drained, shallow, and relatively infertile soils over fractured sandstone. The USDA Soil Survey ⁵ notes that these soils are primarily used for livestock grazing, wine grape production, and wildlife habitat. These soils are prone to erosion due to their thinness and the fact that they frequently occur on slopes. Therefore, mowing is the preferred method of controlling weeds in the vineyards instead of tilling, which disturbs the soil. Additionally, vineyards planted on these soils are at less of a risk for frost damage than soils planted on the valley floor because cold air drains down the slopes and settles on the valley floor.

⁵ Included in Appendix 2 of the petition, which is posted within Docket TTB-2023-0003 at www.regulations.gov.

Perrygulch Loam is a deep, rich, bottomland soil series that is not as well drained as Bearwallow-Wolfey soils. The soils also contain a large amount of clay. Because these soils are primarily located on the flat valley floor, they are more susceptible to frost than the Bearwallow-Wolfey soils that occur on steeper slopes. The petition states that the vineyard planted on Perrygulch Loam soils has an overhead sprinkler system and catchment pond to help with frost protection, while the vineyards planted on the Bearwallow-Wolfey soils either have no frost protection equipment or occasionally use a simple fan. Vineyards planted on Perrygulch soils also try to avoid soil disturbance, not because the soils are easily eroded but because the high clay content is easily compacted by heavy machinery. As a result, the petition states that the preferred method of weed control in these vineyards is the use of herbicides.

By contrast, the most common soils surrounding the proposed Comptche AVA are Ornbaun and Zeni soils, which are found in each direction outside the proposed AVA. These soils are described in the USDA Soil Survey as occurring on hills and mountains. The soils are moderately deep to deep and formed from sandstone, and the surface is typically covered with a mat of leaves and twigs that is one-half inch deep. The USDA Soil Survey notes that these soils are used for timber production or as a watershed.

Climate

The petition to establish the proposed Comptche AVA included climate data from within the proposed AVA and from three established AVAs in Mendocino County: The Mendocino AVA (27 CFR 9.93), which forms a “V” shape to the east and south of the proposed AVA, and the Mendocino Ridge AVA (27 CFR 9.158) and Anderson Valley AVA (27 CFR 9.86), which are both to the south of the proposed AVA.⁶ The following table summarize the average growing season and average annual temperatures. Data was not included for the regions to the north or west of the proposed Comptche AVA.

⁶ Included as Table 2 in the petition, which is posted within Docket TTB-2023-0003 at www.regulations.gov.

⁷ Defined in the petition as the period from April through October.

Table 2—Average Growing Season ⁷ and Annual Temperatures
[Degrees fahrenheit]
Location | Average growing season temperature | Average annual temperature
Proposed Comptche AVA | 74.2 | 67.9
Mendocino AVA | 80.4 | 71.0
Mendocino Ridge AVA | 76.1 | 68.2
Anderson Valley AVA | 78.2 | 70.1

The petition also included data from three additional ways of measuring the climate of a region. The first method is growing degree days (GDDs), also known as the Winkler Index.⁸ The following table summarizes the average annual GDD accumulations from the same locations as used in the previous table.

⁸ See Albert J. Winkler et al., General Viticulture (Berkeley: University of California Press, 2nd ed. 1974), pages 61-64. In the Winkler climate classification system, annual heat accumulation during the growing season, measured in annual GDDs, defines climatic regions. One GDD accumulates for each degree Fahrenheit that a day's mean temperature is above 50 degrees F, the minimum temperature required for grapevine growth.

Table 3—Average Annual GDD accumulations
Location | GDD accumulations
Proposed Comptche AVA | 2,258.85
Mendocino AVA | 3,034.06
Mendocino Ridge AVA | 2,680.08
Anderson Valley AVA | 2,738.92

The second system of measuring climate is the Huglin Index. According to the petition, this method uses the period from April 1 through September 30 and sums the mean of the daily mean temperatures above 10 degrees Celsius, multiplied by a coefficient indicative of the latitude to account for increasing day lengths. The following table summarizes the Huglin Index numbers for the same locations as used in the previous table.

Table 4—Huglin Index
Location | Huglin Index
Proposed Comptche AVA | 1,835.81
Mendocino AVA | 2,399.82
Mendocino Ridge AVA | 2,051.0
Anderson Valley AVA | 2,185.79

The final system of measuring climate is called Biologically Effective Degree Days (BEDD). The BEDD method calculates the growing degree days between April 1 and October 31 and also accounts for day length and diurnal temperature range. The following table summarizes the BEDD accumulations for the same locations as used in the previous table.

Table 5—BEDD Accumulations
Location | BEDD accumulations
Proposed Comptche AVA | 1,395.05
Mendocino AVA | 1,805.09
Mendocino Ridge AVA | 1,543.05
Anderson Valley AVA | 1,699.14

The climate data included in the petition shows that the proposed Comptche AVA has lower GDD and BEDD accumulations and a lower Huglin Index number than the regions to the south and east, suggesting a significantly cooler climate within the proposed AVA. The petition states that the proposed AVA is a “borderline” region for growing wine grapes, and that only the most cold-hardy varietals will successfully ripen. Pinot Noir is the only grape varietal currently grown commercially within the proposed Comptche AVA.

Summary of Distinguishing Features

The following table summarizes the characteristics of the proposed Comptche AVA and the surrounding regions.

Table 6—Summary of Distinguishing Features
Location | Topography | Soils | Climate
Proposed Comptche AVA | Low elevation, naturally-open valley; elevations between 187 and 400 feet; not designated as a Timberland Production Zone | Bearwallow-Wolfey and Perrygulch Loam; generally well-drained, shallow, relatively fertile; prone to erosion | Average growing season monthly low temperatures range from 26 to 46.6 degrees F; 2,258.85 GDDs; Huglin Index 1,835.81; 1,495.05 BEDDs.
North | Heavily forested; elevations reach 1,000 feet and higher; designated as Timberland Production Zone | Ornbaun and Zeni; moderately deep and typically covered with a mat of leaves and twigs | Average growing season monthly low temperatures range from 31.3 to 50.4 degrees F.
East | Elevations reach 1,200 feet and higher; designated as Timberland Production Zone | Ornbaun and Zeni; moderately deep and typically covered with a mat of leaves and twigs | Mendocino AVA: Average growing season temperature 80.4 degrees F, annual temperature 71 degrees F; 3,034.06 GDDs; Huglin Index 2,399.82; 1,805.09 BEDDs.
South | Elevations reach over 600 feet; designated as Timberland Production Zone | Ornbaun and Zeni; moderately deep and typically covered with a mat of leaves and twigs | Average growing season monthly low temperatures range from 36.1 to 51.1 degrees F; in Mendocino Ridge AVA: average growing season temperature 76.1 degrees F, average annual temperature 68.2 degrees F, 2,680.08 GDDs, Huglin Index 2,051, 1,543.05 BEDDs; in Anderson Valley AVA: average growing season 78.2 degrees F, average annual temperature 70.1 degrees F, 2,738.92 GDDs, Huglin Index 2,185.79, 1,699.14 BEDDs.
West | Elevations rise over 800 feet; designated as Timberland Production Zone | Ornbaun and Zeni; moderately deep and typically covered with a mat of leaves and twigs | Not Available.

Comparison of the Proposed Comptche AVA to the Existing North Coast AVA

The North Coast AVA was established by T.D. ATF-145, published in the Federal Register on September 21, 1983 (48 FR 42973). It includes all or portions of Napa, Sonoma, Mendocino, Lake, Marin, and Solano Counties, California. According to T.D. ATF-145, the North Coast AVA is characterized by a marine-influenced climate that can be classified as Regions I-III on the Winkler Index. T.D. ATF-145 did not include any information on the soils of the North Coast AVA.

Comparison of Climate

Although the proposed Comptche AVA also has a marine-influenced climate, the petition states that the climate and soils of the proposed AVA are so different from the North Coast AVA that the proposed AVA should not be considered a part of the larger AVA. The petition describes the climate of the proposed AVA as suitable for growing only the most cold-hardy wine grapes. The petition for the proposed Comptche AVA included climate date from within the proposed AVA and from the North Coast AVA, as a whole.⁹ The information is summarized in the following table.

⁹ Included as Table 2 in the petition, which is posted within Docket TTB-2023-0003 at www.regulations.gov.

Table 7—Climate Comparison of North Coast AVA and Proposed Comptche AVA
Location | BEDDs | GDDs | Huglin Index | Average growing season temperature (degrees F) | Average annual temperature (degrees F)
Proposed Comptche AVA | 1,395.05 | 2,258.85 | 1,835.81 | 74.2 | 67.9
North Coast AVA | 1,798.84 | 3,080.43 | 2,342.98 | 79.6 | 71.4

The data in the table suggest that the climate of the proposed Comptche AVA is cooler than that of the larger, multi-county North Coast AVA as a whole. The GDD accumulations for the proposed AVA indicate it is a Region I climate, whereas the North Coast AVA's GDD accumulations indicate the AVA, as a whole, is a Region III climate.¹⁰ T.D. ATF-145 notes that variations in climate exist within the North Coast AVA due to its large size. However, the proposed Comptche AVA is not just cooler than locations in other counties within the North Coast AVA, but it is also cooler than its three closest neighboring AVAs in Mendocino County—the Mendocino, Mendocino Ridge, and Anderson Valley AVAs.¹¹ Therefore, the petition lists climate as one of the reasons to exclude the proposed Comptche AVA from the established North Coast AVA.

¹⁰ See Albert J. Winkler et al., General Viticulture (Berkeley: University of California Press, 2nd. ed. 1974), pages 61-64. In the Winkler scale, the GDD regions are defined as follows: Region I = less than 2,500 GDDs; Region II = 2,501-3,000 GDDs; Region III = 3,001-3,500 GDDs; Region IV = 3,501-4,000 GDDs; Region V = greater than 4,000 GDDs.

¹¹ See Tables 3, 4, and 5 in the Climate section of this proposed rule.

Comparison of Soil

T.D. ATF-145, which established the North Coast AVA, did not include information about the AVA's soils. The proposed Comptche AVA petition states that the primary soils in the proposed AVA are the Bearwallow-Wolfey and Perrygulch Loam series. According to the petition, these soil series have a limited extent in California: the Bearwallow series covers a total of 30,050 acres, the Wolfey series covers 4,709 acres, and the Perrygulch series covers 580 acres. By comparison, the Zeni and Ornbaun series, which are the most prominent soils in the regions directly outside the proposed AVA, cover 96,612 and 115,774 acres, respectively. T.D. ATF-145 notes that the entire North Coast AVA covers slightly more than 3 million acres. The petition states that the uniqueness of the primary soils of the proposed Comptche AVA is another reason the proposed AVA should not be considered a part of the North Coast AVA.

TTB Determination

TTB concludes that the petition to establish the 1,421.8-acre “Comptche” AVA merits consideration and public comment, as invited in this document.

Boundary Description

See the narrative boundary descriptions of the petitioned-for AVA in the proposed regulatory text published at the end of this document.

Maps

The petitioner provided the required maps, and they are listed below in the proposed regulatory text. You may also view the proposed Comptche AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See 27 CFR 4.39(i)(2) for details.

If TTB establishes this proposed AVA, its name, “Comptche,” will be recognized as a name of viticultural significance under § 4.39(i)(3) of the TTB regulations (27 CFR 4.39(i)(3)). The text of the proposed regulation clarifies this point. Consequently, wine bottlers using “Comptche” in a brand name, including a trademark, or in another label reference as to the origin of the wine, would have to ensure that the product is eligible to use the viticultural area's name “Comptche.”

If the proposed Comptche AVA is excluded from the established North Coast AVA, grapes grown in the Comptche AVA would not count towards the percentage requirement for wines labeled as “North Coast.” Vintners would be able to use “Comptche,” and only that term, as an AVA appellation of origin, if at least 85 percent of the wine is derived from grapes grown in the Comptche AVA, and if the wine meets the other eligibility requirements for the appellation. Alternatively, vintners could use “California” or “Mendocino County” as non-AVA appellations of origin.

Public Participation

Comments Invited

TTB invites comments from interested members of the public on whether TTB should establish the proposed Comptche AVA. TTB is interested in receiving comments on the sufficiency and accuracy of the name, boundary, and other required information submitted in support of the AVA petition. In addition, because the proposed Comptche AVA would not be considered part of the existing North Coast AVA, TTB is interested in comments on whether the evidence submitted in the petition regarding the distinguishing features of the proposed AVA sufficiently demonstrate that its geographic features are so distinguishable from the North Coast AVA that the proposed Comptche AVA should not be part of the established AVA. Please provide any available specific information in support of your comments.

Because of the potential impact of the establishment of the proposed Comptche AVA on wine labels that include the term “Comptche,” as discussed in the Impact on Current Wine Labels section, TTB is particularly interested in comments regarding whether there will be a conflict between the proposed area names and currently used brand names. If a commenter believes that a conflict will arise, the comment should describe the nature of that conflict, including any anticipated negative economic impact that approval of the proposed AVA will have on an existing viticultural enterprise. TTB is also interested in receiving suggestions for ways to avoid conflicts, for example, by adopting a modified or different name for the proposed AVA.

Submitting Comments

You may submit comments on this proposal by using one of the following methods:

• Federal e-Rulemaking Portal: You may send comments via the online comment form posted with this document within Docket No. TTB-2023-0003 on “Regulations.gov,” the Federal e-rulemaking portal, at https://www.regulations.gov. A direct link to that docket is available under Notice No. 222 on the TTB website at https://www.ttb.gov/wine/wine-rulemaking.shtml. Supplemental files may be attached to comments submitted via Regulations.gov. For complete instructions on how to use Regulations.gov, visit the site and click on the “Help” tab at the top of the page.

• U.S. Mail: You may send comments via postal mail to the Director, Regulations and Rulings Division, Alcohol and Tobacco Tax and Trade Bureau, 1310 G Street NW, Box 12, Washington, DC 20005.

Please submit your comments by the closing date shown above in this document. Your comments must reference Notice No. 222 and include your name and mailing address. Your comments also must be made in English, be legible, and be written in language acceptable for public disclosure. We do not acknowledge receipt of comments, and we consider all comments as originals.

Your comment must clearly state if you are commenting on your own behalf or on behalf of an organization, business, or other entity. If you are commenting on behalf of an organization, business, or other entity, your comment must include the entity's name as well as your name and position title. If you comment via Regulations.gov, please enter the entity's name in the “Organization” blank of the online comment form. If you comment via postal mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this document, selected supporting materials, and any online or mailed comments received about this proposal within Docket No. TTB-2023-0003 on the Federal e-rulemaking portal, Regulations.gov, at https://www.regulations.gov. A direct link to that docket is available on the TTB website at https://www.ttb.gov/wine/wine-rulemaking.shtml under Notice No. 222. You may also reach the relevant docket through the Regulations.gov search page at https://www.regulations.gov. For instructions on how to use Regulations.gov, visit the site and click on the “Help” tab at the top of the page.

All posted comments will display the commenter's name, organization (if any), city, and State, and, in the case of mailed comments, all address information, including email addresses. TTB may omit voluminous attachments or material that it considers unsuitable for posting.

You may also obtain copies of this proposed rule, all related petitions, maps and other supporting materials, and any electronic or mailed comments that TTB receives about this proposal at 20 cents per 8.5- x 11-inch page. Please note that TTB is unable to provide copies of USGS maps or any similarly-sized documents that may be included as part of the AVA petition. Contact TTB's Regulations and Rulings Division by email using the web form at https://www.ttb.gov/contact-rrd, or by telephone at 202-453-1039, ext. 175, to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866. Therefore, it requires no regulatory assessment.

List of Subjects in 27 CFR Part 9

Wine.

Proposed Regulatory Amendment

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Add § 9.__ to read as follows:

§ 9.__ Comptche.

(a) Name. The name of the viticultural area described in this section is “Comptche”. For purposes of part 4 of this chapter, “Comptche” is a term of viticultural significance.

(b) Approved maps. The one United States Geological Survey (USGS) 1:24,000 scale topographic map used to determine the boundary of the viticultural area is titled Comptche, California (provisional edition 1991).

(c) Boundary. The Comptche viticultural area is located in Mendocino County, California. The boundary of the Comptche viticultural area is as described as follows:

(1) The beginning point is on the Comptche map at the intersection of a north-south tributary of the Albion River and an unnamed improved road known locally as Comptche Ukiah Road, section 12, T16N/R16W. From the beginning point, proceed northwest in a straight line, crossing an unnamed, unimproved road known locally as Surprise Valley Road, to the 400-foot elevation contour, section 12, T16N/R16W; then

(2) Proceed north, then easterly along the 400-foot elevation contour to its intersection with an unnamed, unimproved road southeast of the marked 517-foot peak in section 1, T16N/R16W; then

(3) Proceed southeasterly along the unnamed, unimproved road to its intersection with an unnamed, unimproved road known locally as Surprise Valley Road, section 1, T16N/R16W; then

(4) Proceed northeasterly along Surprise Valley Road to its intersection with an unnamed, unimproved road known locally as North Fork Road, section 1, T16N/R16 W; then

(5) Proceed northwesterly along North Fork Road to its intersection with an unnamed, unimproved road known locally as Docker Hill Road in section 36, T17N/R16W; then

(6) Proceed north along Docker Hill Road to its intersection with the 400-foot elevation contour, section 36, T17N/R16W; then

(7) Proceed easterly along the 400-foot elevation contour to its intersection with the North Fork of the Albion River in section 37, T17N/R15W; then

(8) Continue in a generally southerly direction along the 400-foot elevation contour to its intersection with an unnamed intermittent creek in section 6, T16N/R15W; then

(9) Proceed south in a straight line to the 400-foot elevation contour, section 6, T16N/R15W; then

(10) Proceed southeasterly, then north, then southeasterly along the meandering 400-foot elevation contour to its intersection with the Albion River in section 8, T16N/R15W; then

(11) Proceed westerly along the Albion River to its intersection with a north-south tributary in section 12, T16N/R16W; then

(12) Proceed northeasterly along the tributary, returning to the beginning point.

(d) Exclusion. The Comptche viticultural area as described in this section is not included within the North Coast viticultural area as described in § 9.30.

Signed: March 17, 2023.
Mary G. Ryan,
Administrator.
Approved: March 20, 2023.
Thomas C. West, Jr.,
Deputy Assistant Secretary (Tax Policy).

[FR Doc. 2023-06349 Filed 3-28-23; 8:45 am]

BILLING CODE 4810-31-P